DEPARTMENT OF EDUCATION

Notice of Proposed Information Collection Requests

AGENCY: Department of Education.

SUMMARY: The Director, Information Collection Clearance Division, Regulatory Information Management Services, Office of Management, invites comments on the proposed information collection requests as required by the Paperwork Reduction Act of 1995.

DATES: Interested persons are invited to submit comments on or before April 27, 2009.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Director, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: February 19, 2009.
Angela C. Arrington,
Director, Information Collections Clearance Division, Regulatory Information Management Services, Office of Management.

Institute of Education Sciences

Type of Review: Extension.

Title: Quick Response Information System (QRIS).

Frequency: One time.

Affected Public: Individuals or household; not-for-profit institutions; State, Local, or Tribal Gov't, SEAs or LEAs.

Reporting and Recordkeeping Hour Burden:

Responses: 3,655.

Burden Hours: 7,889.

Abstract: The National Center for Education Statistics (NCES) Quick Response Information System (QRIS) consists of the Fast Response Survey System (FRSS) and the Postsecondary Education Quick Information System (PEQIS). The QRIS currently conducts surveys under OMB generic clearance 1850-0733, which expires in October 2009. This clearance request represents a request for a continuation of the current clearance conditions through October 2012. FRSS primarily conducts surveys of the elementary/secondary sector (districts, schools) and public libraries. PEQIS conducts surveys of the postsecondary education sector. FRSS and PEQIS surveys are cleared under the QRIS generic clearance. The QRIS clearance goes through the regular clearance process at OMB with a 60-day notice and a 30-day notice as part of the 120-day review period. The QRIS package describes the general scope of the surveys, their quick turnaround time, their length, size of sample, sample design, and some typical topics. Each individual FRSS or PEQIS survey goes into the clearance process with an abbreviated clearance package, justifying the particular content of the survey, describing the sample design, the timeline for the survey activities, and the questionnaire. The review period for each individual survey is approximately 45 days, including a 30-day Federal Register notice period. OMB will provide comments as soon after the end of the 30-day notice period as possible. This generic clearance request is for surveys of state education agencies, school districts, schools, postsecondary institutions, and libraries. Surveys of teachers, students, commercial establishments, and households are not included in this request.

Requests for copies of the proposed information collection request may be accessed from http://www.edicsweb.ed.gov, by selecting the “Browse Pending Collections” link and by clicking on link number 3965. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E9-3930 Filed 2-23-09; 8:45 am]

BILLING CODE 4000-01-P